DEPARTMENT OF HOMELAND SECURITY

Coast Guard

33 CFR Part 110

[Docket No. USCG-2012-0159]

RIN 1625-AA01

Anchorages; Captain of the Port Puget Sound Zone, WA

AGENCY: Coast Guard, DHS.

ACTION: Notice of proposed rulemaking.

SUMMARY: The Coast Guard proposes to make five general anchorage areas smaller. It also proposes administrative changes that would rename 33 CFR 110.230, reorganize it by incorporating 33 CFR 110.229, and modify the descriptions of four general anchorages. These changes will clarify to the general public the boundaries and requirements of anchorages, and enhance safety by ensuring good order and predictability within the anchorages of the Captain of the Port (COTP) Puget Sound zone.

DATES: Comments and related material must be received by the Coast Guard on or before December 3, 2012. Requests for public meetings must be received by the Coast Guard on or before November 13, 2012.

ADDRESSES: You may submit comments identified by docket number USCG-2012-0159 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rule, call or email Mr. Mark Ashley, Director, Vessel Traffic Service Puget Sound, Waterways Management Division, Sector Puget Sound, Coast Guard; telephone 206-217-6046, email Mark.E.Ashley@uscg.mil. If you have questions on viewing or submitting material to the docket, call Renee V. Wright, Program Manager, Docket Operations, telephone 202-366-9826.

SUPPLEMENTARY INFORMATION:

Table of Acronyms

DHS Department of Homeland Security

FR Federal Register

NPRM Notice of Proposed Rulemaking

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number [USCG-2012-0159] in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number [USCG-2012-0159] in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But, you may submit a request for a public meeting by November 13, 2012 using one of the methods specified under ADDRESSES. Please explain why you believe a public meeting would be beneficial. If we determine that a public meeting would aid this rulemaking, we will hold one at a time and place announced by a later notice in the Federal Register.

B. Basis and Purpose

The legal basis for this rule is: 33 U.S.C. 471, 1221 through 1236, 2030, 2035, 2071; 33 CFR 1.05-1; and Department of Homeland Security Delegation No. 0170.1, which collectively authorize the Coast Guard to define anchorage grounds. The 1976 Puget Sound Area Anchorages rulemaking defined 11 general and explosive anchorages within greater Puget Sound area. These areas are described using geographic points of land and bearings and ranges as the boundaries. This rule proposes to update existing anchorages to describe areas using points of latitude and longitude, which, with the advent of Global Positioning System (GPS), is much more practical and accurate for the mariner. Additionally, changes to shore side infrastructure, safety and security zones, and environmentally sensitive areas have made some of the anchorage boundaries impractical, such that the listed boundaries no longer reflect the actual anchorages as used today. This rule addresses these changes by reducing the size of specified anchorages.

C. Discussion of Proposed Rule

1. Unchanged Anchorages

This proposed rule would change the descriptions of the following anchorages to points of latitude and longitude, but does not change their actual area and location:

Holmes Harbor General Anchorage. Coordinates would be revised to read: All waters of Holmes Harbor lying south of a line between latitude 48°05′50″ N, longitude 122°31′24″ W; thence 311°T to latitude 48°07′03″ N, longitude 122°33′31″ W.

Thorndike Bay Emergency Explosives Anchorage. Coordinates would be revised to read: All waters in a quadrilateral area bounded as follows: Beginning at latitude 47°47′59″ N, longitude 122°43′30″ W; thence 270°T to latitude 47°47′59″ N, longitude 122°44′30″ W; thence 180°T to latitude 47°47′30″ N, longitude 122°44′30″ W; thence 090°T to latitude 47°47′30″ N, longitude 122°43′30″ W, thence 000°T to the point of origin.

Orchard Point General Anchorage. This rule would rename Orchard Point General Anchorage to the more commonly used name of Yukon Harbor General Anchorage. Yukon Harbor General Anchorage coordinates would be revised to read: All waters inside the area beginning at latitude 47°33′54.66″ N, longitude 122°31′54.68″ W; thence 106°T to latitude 47°33′23″ N, longitude 122°29′05″ W; thence 180°T to latitude 47°32′39.5″ N, longitude 122°29′05″ W; thence south along the eastern shoreline of Blake Island to latitude 47°31′48″ N, longitude 122°29′21″ W; thence 250°T to latitude 47°31′20.5″ N, longitude 122°31′10″ W; thence west and north along the Kitsap Peninsula shoreline to the point of origin.

In addition, we propose to update the following anchorages' datum from NAD 27 to NAD 83: Cherry Point General Anchorage, Bellingham Bay General and Explosives Anchorages, Port Townsend Explosives Anchorages, and Commencement Bay General Anchorage. The datum transposition was done using the National Geodetic Survey's NADCON Program Version 2.11 found at www.ngs.noaa.gov/cgi-bin/nadcon.prl.

Finally, the following anchorage areas would remain unchanged: Anacortes General Anchorages, Cap Sante Tug and Barge General Anchorage, and Hat Island Tug and Barge General Anchorage.

2. Anchorages To Be Reduced in Size

This proposed rule would reduce the size of the following anchorages.

Port Gardner General Anchorage. Coordinates would be revised to read: All waters in a quadrilateral area bounded as follows: Beginning at latitude 47°58′57″ N, longitude 122°14′05″ W; thence 302°T to latitude 47°59′21.5″ N, longitude 122°15′02″ W; thence 229°T to latitude 47°58′57″ N, longitude 122°15′44″ W; thence 122°T to latitude 47°58′32.5″ N, longitude 122°14′47″ W; thence 048°T to point of origin. Modification would eliminate the easternmost portion of the existing anchorage area so as not to encroach on Naval Station Everett Pier Bravo and security barrier and restricted area defined in 33 CFR 334.1215, approaches to Snohomish River channel and shoal area off the southern tip of Jetty Island.

Smith Cove West General Anchorage. Coordinates would be revised to read: All waters inside the area beginning at latitude 47°38′20.44″ N, longitude 122°24′48.56″ W; thence 207°T to latitude 47°37′51.6″ N, longitude 122°25′10.5″ W; thence 124°T to latitude 47°36′56.2″ N, longitude 122°23′07″ W; thence 000°T to latitude 47°37′59.5″ N, longitude 122°23′07″ W; thence northwest along the shoreline to the point of origin. Modification would align the eastern boundary of the anchorage with the Pier 91 Safety and Security zone defined in 33 CFR 165.1324.

Smith Cove East General Anchorage. Coordinates would be revised to read: All waters inside the area beginning at latitude 47°37′36.2″ N, longitude 122°22′43″ W; thence 180°T to latitude 47°36′56.2″ N, longitude 122°22′43″ W; thence 090°T to latitude 47°36′56.2″ N, longitude 122°21′22.5″ W, thence northwest along the shoreline to the beginning. Modification would align the western boundary of the anchorage with the Pier 91 Safety and Security zone defined in 33 CFR 165.1324.

Elliott Bay East General Anchorage. Coordinates would be revised to read: All waters inside the area beginning at latitude 47°35′25.8″ N, longitude 122°20′45.5″ W; thence 000°T to latitude 47°35′55.85″ N, longitude 122°20′45.5″ W; thence 270°T to latitude 47°35′55.85″ N, longitude 122°21′30″ W; thence 180°T to latitude 47°35′19.2″ N, longitude 122°21′30″ W; thence east along the shoreline to the point of origin. Modification would correct positions as a result of chart datum changes.

Elliott Bay West General Anchorage. Coordinates would be revised to read: All waters inside the area beginning at latitude 47°35′30″ N, longitude 122°21′41″ W, thence 000°T to latitude 47°35′45.5″ N, longitude 122°21′41″ W; thence 336°T to latitude 47°35′55.85″ N, longitude 122°21′48.5″ W; thence 270°T to latitude 47°35′55.85″ N, longitude 122°23′16.46″ W, thence 180°T to Duwamish Head thence southeast following the shoreline to latitude 47°35′30″ N, longitude 122°22′54.5″ W; thence 090°T to the point of origin. Modification would eliminate the southern portion of the anchorage area to avoid the regulated navigation area protecting the Pacific Sound Resources sediment cap defined in 33 CFR 165.1336.

3. Anchorage To Be Renamed

Freshwater Bay Emergency Explosive Anchorage. This proposed rule would rename the anchorage to Freshwater Bay Emergency Anchorage to reflect its actual and intended use. Freshwater Bay is located approximately 10 miles west of Port Angeles in the Strait of Juan de Fuca. The name change from “Emergency Explosive Anchorage” to “Emergency Anchorage” would more accurately reflect the actual and intended use of this anchorage. Freshwater Bay has been used for many years as a general emergency anchorage for emergencies including explosives and other emergencies requiring vessels to be anchored in a safe area away from infrastructure and densely populated areas. The change in name of Freshwater Bay Emergency Anchorage is deemed to be administrative in nature because the anchorage's usage is exceptionally rare and not expected to change at all as a result of this rulemaking. Anchorage logs show that only two vessels have used the anchorage in the past 10 years. Coordinates would be revised to read: all waters of Freshwater Bay and adjacent waters shoreward of a line beginning at Observatory Point, latitude 48°09′03″ N, longitude 123°38′12″ W; thence 000°T to latitude 48°09′36″ N, longitude 123°38′12″ W; thence 090°T to latitude 48°09′36″ N, longitude 123°33′27″ W; thence 180°T ending at Angeles Point, latitude 48°09′00″ N, longitude 123°33′27″ W. This anchorage has been used for many years as a general emergency anchorage, for emergency situations requiring vessels to be anchored in a safe place away from infrastructure and densely populated areas, including situations involving explosives. Using the term “Emergency Anchorage” reflects that the anchorage has been used and may be used for a range of emergency situations, including not only explosives, equipment failures, cargo securing, etc. Vessels requiring a customs inspection will not be allowed to anchor in this area.

4. Reorganization and Combination With 33 CFR 110.229

The proposed rule would rename 33 CFR 110.230 to “Anchorages, Captain of the Port Puget Sound Zone, WA” to better describe the area which is incorporated by this regulation. Additionally, the proposed rule would incorporate into § 110.230 the non-anchorage area contained in 33 CFR 110.229, and update the coordinates to datum NAD 1983. Having two separate regulations for the same COTP zone creates unnecessary redundancy and confusion that can be eliminated by incorporating all anchorages into one regulation.

D. Regulatory Analyses

We developed this proposed rule after considering numerous statutes and executive orders related to rulemaking. Below we summarize our analyses based on a number of these statutes or executive orders.

Regulatory Planning and Review

This proposed rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under that Order. We do not expect this proposed rule to have significant impact because it is administrative in nature and would not alter current navigational practices on the affected waterway.

Impact on Small Entities

Under the Regulatory Flexibility Act (5 U.S.C. 601-612), we have considered the impact of this proposed rule on small entities. The Coast Guard certifies under 5 U.S.C. 605(b) that this proposed rule will not have a significant economic impact on a substantial number of small entities.

This proposed rule would affect the following entities, some of which may be small entities: The owners or operators of vessels intending to transit this portion of Puget Sound, the Strait of Juan de Fuca, and adjoining waters. Because the contemplated changes would be minimal in nature and would not alter current navigational practices on the affected waterway, the proposed rule will not have significant economic impact on a substantial number of small entities.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule. If this rule would affect your small business, organization, or governmental jurisdiction and you have questions concerning its provisions or options for compliance, please contact the person listed in the FOR FURTHER INFORMATION CONTACT, above. The Coast Guard will not retaliate against small entities that question or complain about this proposed rule or any policy or action of the Coast Guard.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Protest Activities

The Coast Guard respects the First Amendment rights of protesters. Protesters are asked to contact the person listed in the FOR FURTHER INFORMATION CONTACT section to coordinate protest activities so that your message can be received without jeopardizing the safety or security of people, places or vessels.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

Taking of Private Property

This proposed rule would not cause a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

This proposed rule does not use technical standards. Therefore, we did not consider the use of voluntary consensus standards.

Environment

We have analyzed this proposed rule under Department of Homeland Security Management Directive 023-01 and Commandant Instruction M16475.lD, which guide the Coast Guard in complying with the National Environmental Policy Act of 1969 (NEPA)(42 U.S.C. 4321-4370f), and have made a preliminary determination that this action is one of a category of actions that do not individually or cumulatively have a significant effect on the human environment. This rule involves administrative changes to an anchorage regulation that either do not change the size of existing anchorage areas, or make some anchorage areas smaller.

We seek any comments or information that may lead to the discovery of a significant environmental impact from this proposed rule.

List of Subjects in 33 CFR Part 110

Anchorage grounds.

For the reasons discussed in the preamble, the Coast Guard proposes to amend 33 CFR part 110 as follows:

PART 110—ANCHORAGE REGULATIONS

1. The authority citation for part 110 continues to read as follows:

Authority: 33 U.S.C. 471, 1221 through 1236, 2030, 2035, 2071; 33 CFR 1.05-1; Department of Homeland Security Delegation No. 0170.1.

§ 110.229 [Removed]

2. Remove § 110.229.

3. Revise § 110.230 to read as follows:

§ 110.230 Anchorages, Captain of the Port Puget Sound Zone, WA.

(a) Anchorage grounds. All coordinates are expressed in North American Datum 1983.

(1) Freshwater Bay Emergency Anchorage. All waters of Freshwater Bay and adjacent waters shoreward of a line beginning at Observatory Point, latitude 48°09′03″ N, longitude 123°38′12″ W; thence 000°T to latitude 48°09′36″ N, longitude 123°38′12″ W; thence 090°T to latitude 48°09′36″ N, longitude 123°33′27″ W; thence 180°T ending at Angeles Point, latitude 48°09′00″ N, longitude 123°33′27″ W.

(i) This anchorage may only be assigned to vessels experiencing an emergency that requires anchoring. Vessel emergencies include equipment failures, cargo securing, etc. Vessels requiring a customs inspection will not be allowed to anchor in this area.

(ii) [Reserved.]

(2) Bellingham Bay Anchorages.

(i) General Anchorage. The waters of Bellingham Bay within a circular area with a radius of 2,000 yards, having its center at latitude 48°44′14.39″, longitude 122°32′26.62″.

(ii) Explosives Anchorage. The waters of Bellingham Bay within a circular area with a radius of 1,000 yards, having its center at latitude 48°42′47.39″, longitude 122°33′41.62″.

(3) Port Townsend Anchorages.

(i) Fair weather explosives anchorage area. A circular area having a radius of 300 yards, whose center is at latitude 48°06′25.30″, longitude 122°43′50.60″.

(ii) Foul weather explosives anchorage area. A circular area having a radius of 300 yards, whose center is at latitude 48°04′4.33″, longitude 122°44′56.60″.

(4) Holmes Harbor General Anchorage. All waters of Holmes Harbor lying south of a line between latitude 48°05′50″ N, longitude 122°31′24″ W; thence 311°T to latitude 48°07′03″ N, longitude 122°33′31″ W.

(5) Port Gardner General Anchorage. All waters in a quadrilateral area bounded as follows: Beginning at latitude 47°58′57″ N, longitude 122°14′05″ W; thence 302°T to latitude 47°59′21.5″ N, longitude 122°15′02″ W; thence 229°T to latitude 47°58′57″ N, longitude 122°15′44″ W; thence 122°T to latitude 47°58′32.5″ N, longitude 122°14′47″ W; thence 048°T to point of origin.

(6) Thorndike Bay Emergency Explosives Anchorage. All waters in a quadrilateral area bounded as follows: Beginning at latitude 47°47′59″ N, longitude 122°43′30″ W; thence 270°T to latitude 47°47′59″ N, longitude 122°44′30″ W; thence 180°T to latitude 47°47′30″ N, longitude 122°44′30″ W; thence 090°T to latitude 47°47′30″ N, longitude 122°43′30″ W, thence 000°T to point of origin.

(7) Elliott Bay Anchorages.

(i) Smith Cove West General Anchorage. All waters inside the area beginning at latitude 47°38′20.44″ N, longitude 122°24′48.56″ W; thence 207°T to latitude 47°37′51.6″ N, longitude 122°25′10.5″ W; thence 124°T to latitude 47°36′56.2″ N, longitude 122°23′07″ W; thence 000°T to latitude 47°37′59.5″ N, longitude 122°23′07″ W; thence northwest along the shoreline to the point of origin.

(ii) Smith Cove East General Anchorage. All waters inside the area beginning at latitude 47°37′36.2″ N, longitude 122°22′43″ W; thence 180°T to latitude 47°36′56.2″ N, longitude 122°22′43″ W; thence 090°T to latitude 47°36′56.2″ N, longitude 122°21′22.5″ W, thence northwest along the shoreline to the point of origin.

(iii) Elliott Bay East General Anchorage. All waters inside the area beginning at latitude 47°35′25.8″ N, longitude 122°20′45.5″ W; thence 000°T to latitude 47°35′55.85″ N, longitude 122°20′45.5″ W; thence 270°T to latitude 47°35′55.85″ N, longitude 122°21′30″ W; thence 180°T to latitude 47°35′19.2″ N, longitude 122°21′30″ W; thence east along the shoreline to the point of origin.

(iv) Elliott Bay West General Anchorage. All waters inside the area beginning at latitude 47°35′30″ N, longitude 122°21′41″ W, thence 000°T to latitude 47°35′45.5″ N, longitude 122°21′41″ W; thence 336°T to latitude 47°35′55.85″ N, longitude 122°21′48.5″ W; thence 270°T to latitude 47°35′55.85″ N, longitude 122°23′16.46″ W, thence 180°T to Duwamish Head thence southeast following the shoreline to latitude 47°35′30″ N, longitude 122°22′54.5″ W; thence 090°T to the point of origin.

(8) Yukon Harbor General Anchorage. All waters inside the area beginning at latitude 47°33′54.66″ N, longitude 122°31′54.68″ W; thence 106°T to latitude 47°33′23″ N, longitude 122°29′05″ W; thence 180°T to latitude 47°32′39.5″ N, longitude 122°29′05″ W; thence south along the eastern shoreline of Blake Island to latitude 47°31′48″ N, longitude 122°29′21″ W; thence 250°T to latitude 47°31′20.5″ N, longitude 122°31′10″ W; thence west and north along the Kitsap Peninsula shoreline to the point of origin.

(9) Cherry Point General Anchorage. The waters within a circular area with a radius of 1600 yards, having its center at latitude 48°48′29.39″ N., longitude 122°46′04.66″ W.

(10) Anacortes General Anchorages.

(i) Anacortes East (ANE) Anchorage. The waters within a circular area with a radius of 600 yards, having its center at 48°31′27″ N., 122°33′45″ W.

(ii) Anacortes Center (ANC) Anchorage. The waters within a circular area with a radius of 600 yards, having its center at 48°30′54″ N, 122°34′06″ W.

(iii) Anacortes West (ANW) Anchorage. The waters within a circular area with a radius of 600 yards, having its center at 48°31′09″ N, 122°34′55″ W.

(11) Cap Sante Tug and Barge General Anchorage. The Cap Sante Tug and Barge General Anchorage includes all waters enclosed by a line connecting the following points: 48°31′16″ N, 122°36′00″ W, which is approximately the northeast tip of Cap Sante; then southeast to 48°30′53″ N, 122°35′28″ W; then west southwest to 48°30′45″ N, 122°35′52″ W, approximately the south tip of Cap Sante; then north along the shoreline to the point of origin.

(12) Hat Island Tug and Barge General Anchorage. The Hat Island Tug and Barge General Anchorage includes all waters enclosed by a line connecting the following points: 48°31′19″ N, 122°33′04″ W, near the west side of Hat Island; then southwest to 48°30′37″ N, 122°33′38″ W; then east to 48°30′37″ N, 122°32′00″ W; then northwest to the point of origin.

(13) Commencement Bay General Anchorage. A quadrilateral area bounded as follows: Beginning at latitude 47°17′36.36″ N., longitude 122°26′04.45″ W.; thence due south to latitude 47°17′18.36″ N., longitude 122°26′04.45″ W.; thence due east to a point bearing 286°T from Hylebos Waterway Light 1 at a distance of 450 yards; thence due north to latitude 47°17′32.36″ N longitude 122°25′04.45″ W; thence west northwest to the point of origin.

(14) Non-anchorage area Port Angeles Harbor. Beginning at a point on the shore at latitude 48°07′03.83″ N., longitude 123°24′20.67″ W.; thence to latitude 48°07′38.43″ N., longitude 123°24′04.67″ W.; thence to latitude 48°07′36.03″ N., longitude 123°23′50.67″ W.; thence to a point on the shoreline at latitude 48°06′56.73″ N., longitude 123°24′08.67″ W.

(i) No vessel may anchor in this non-anchorage area at any time.

(ii) Dragging, seining, fishing, or other activities which may foul underwater installations within this non-anchorage area are prohibited.

(iii) Vessels may transit this non-anchorage area, but must proceed by the most direct route and without unnecessary delay.

Note to paragraph (a)(14): The city of Port Angeles will mark this area with signs on the shoreline visible (during normal daylight) 1 mile to seaward reading, “Do not Anchor in This Area.″

(b) * * *

* * * * *

Dated: September 12, 2012.
K.A. Taylor,
Rear Admiral, U.S. Coast Guard, Commander, Thirteenth Coast Guard District.

[FR Doc. 2012-24164 Filed 10-1-12; 8:45 am]

BILLING CODE 9110-04-P